DEPARTMENT OF COMMERCE

Census Bureau

Proposed Information Collection; Comment Request; Survey of State Government Research and Development

AGENCY: U.S. Census Bureau, Commerce.

ACTION: Notice.

SUMMARY: The Department of Commerce, as part of its continuing effort to reduce paperwork and respondent burden, invites the general public and other Federal agencies to take this opportunity to comment on a proposed revision and extension of the Survey of State Government Research and Development, as required by the Paperwork Reduction Act of 1995.

DATES: To ensure consideration, written comments must be submitted on or before March 23, 2020.

ADDRESSES: Direct all written comments to Thomas Smith, PRA Liaison, U.S. Census Bureau, 4600 Silver Hill Road, Room 7K250A, Washington, DC 20233 (or via the internet at PRAcomments@doc.gov). You may also submit comments, identified by Docket Number USBC-2019-0021, to the Federal e-Rulemaking Portal: http://www.regulations.gov. All comments received are part of the public record. No comments will be posted to http://www.regulations.gov for public viewing until after the comment period has closed. Comments will generally be posted without change. All Personally Identifiable Information (for example, name and address) voluntarily submitted by the commenter may be publicly accessible. Do not submit Confidential Business Information or otherwise sensitive or protected information. You may submit attachments to electronic comments in Microsoft Word, Excel, or Adobe PDF file formats.

FOR FURTHER INFORMATION CONTACT: Requests for additional information or copies of the information collection instrument(s) and instructions should be directed to Michael Flaherty, U.S. Census Bureau, HQ-6H051, 4600 Silver Hill Rd., Suitland, MD 20746, (301) 763-7699 (or via the internet at michael.j.flaherty@census.gov).

SUPPLEMENTARY INFORMATION

I. Abstract

The United States Census Bureau plans to make revisions to the Survey of State Government Research and Development (SGRD). The Census Bureau conducts the SGRD to measure research and development performed and funded by state government agencies in the United States. The Census Bureau conducts the survey on behalf of the National Center for Science and Engineering Statistics (NCSES) within the National Science Foundation.

The National Science Foundation Act of 1950, as amended, includes a statutory charge to “provide a central clearinghouse for the collection, interpretation, and analysis of data on scientific and engineering resources and to provide a source of information for policy formulation by other agencies in the Federal Government.” This mandate was further codified in the America COMPETES Reauthorization Act of 2010 § 505, which requires NCSES to “collect, acquire, analyze, report, and disseminate . . . statistical data on (A) research and development trends . . . ” Under the aegis of these legislative mandates, NCSES has sponsored surveys of research and development (R&D) since 1951, including the SGRD since 2006. The Census Bureau's authorization to undertake this work is found at 13 U.S.C. Section 8(b) which provides that the Census Bureau “may make special statistical compilations and surveys for departments, agencies, and establishments of the Federal government, the government of the District of Columbia, the government of any possession or area (including political subdivisions thereof) . . . State or local agencies, or other public and private persons and agencies.”

The SGRD is the only comprehensive source of state government research and development expenditure data collected on a nationwide scale using uniform definitions, concepts, and procedures. The collection covers the expenditures of all agencies in the fifty state governments, the District of Columbia, and Puerto Rico that perform or fund R&D. The NCSES coordinates with the Census Bureau for the data collection. The NCSES uses this collection to satisfy, in part, its need to collect research and development expenditures data.

Fiscal data provided by respondents aid data users in measuring the effectiveness of resource allocation. The products of this data collection make it possible for data users to obtain information on such things as expenditures according to source of funding (e.g., federal funds or state funds), by performer of the work (e.g., intramural and extramural to state agencies), by function (e.g., agriculture, energy, health, transportation, etc.), by type of work (e.g., basic research, applied research, or experimental development) for intramural performance of R&D, and by R&D plant (e.g., construction projects). Final results produced by NCSES contain state and national estimates useful to a variety of data users interested in research and development performance including: The National Science Board; the Office of Management and Budget; the Office of Science and Technology Policy and other science policy makers; institutional researchers; and private organizations.

Beginning with the 2020 survey (planned launch late summer, 2020), we plan to ask for head counts and full-time equivalent (FTEs) for agency personnel who perform R&D. Adding these new questions to the SGRD will improve measures of the national R&D workforce. Based on record-keeping interviews with business respondents to similar questions, we do not anticipate that these two questions will add any substantive burden to respondents. We have added approximately 200 state agencies to the survey frame of agencies with the potential to perform or fund R&D activities. Adding these 200 agencies will result in a 400-hour increase in the survey's total burden hour estimate.

The survey announcements and forms used in the SGRD are:

Survey Announcement. An introductory letter from the Directors of the NCSES and the Census Bureau is mailed to the Governor's Office to announce the survey collection and to solicit assignment of a State Coordinator. The State Coordinator's Announcement is sent electronically at the beginning of each survey period to solicit assistance in identifying state agencies which may perform or fund R&D activities.

Form SRD-1. This form contains item descriptions and definitions of the research and development items collected by the Census Bureau on behalf of the NCSES. All states supply their data by electronic means.

II. Method of Collection

The Census Bureau mails the 50 state governors, the mayor of DC, and the governor of Puerto Rico a letter requesting that they appoint a state coordinator for the survey. They are asked to respond within 30 days. The Census Bureau then emails the state coordinators a spreadsheet asking them to identify state agencies that may be active R&D performers. State coordinators are asked to respond within 30 days. The Census Bureau subsequently emails the survey form to each state agency identified by the respective state coordinators. The form contains embedded data checks and auto-summing functionality. Agencies are asked to complete and email back the form within 60 days. Alternatively, agencies are able to report to the Census Bureau by telephone.

III. Data

OMB Control Number: 0607-0933.

Form Number(s): SRD-1.

Type of Review: Regular submission.

Affected Public: State government agencies.

Estimated Number of Respondents: 51 governors, 1 mayor, 52 state coordinators, and approximately 700 state government agencies.

Estimated Time per Response: 5 minutes for each governor, 1 hour for each state coordinator, and 2 hours for each state agency surveyed.

Estimated Total Annual Burden Hours: 1,456.

Estimated Total Annual Cost to Public: $0 (This is not the cost of respondents' time, but the indirect costs respondents may incur for such things as purchases of specialized software or hardware needed to report, or expenditures for accounting or records maintenance services required specifically by the collection.)

Respondent's Obligation: Voluntary.

Legal Authority: National Science Foundation Act of 1950 as amended and the America COMPETES Reauthorization Act of 2010, Title 42 U.S.C. 1861-76; Title 13, U.S.C. Section 8(b).

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Sheleen Dumas,
Department PRA Clearance Officer, Office of the Chief Information Officer, Commerce Department.

[FR Doc. 2020-00978 Filed 1-21-20; 8:45 am]

BILLING CODE 3510-07-P